NATIONAL AERONAUTICS AND SPACE ADMINISTRATION

[Notice (18-048)]

Notice of Intent To Grant Partially Exclusive Patent License

AGENCY: National Aeronautics and Space Administration.

ACTION: Notice of Intent to Grant Partially Exclusive Patent License.

SUMMARY: NASA hereby gives notice of its intent to grant a partially exclusive patent license in the United States to practice the inventions described and claimed in U.S. Patent Application No. 15/014,608 titled “Nuclear Thermionic Avalanche Cells with Thermoelectric (NTAC-TE) Generator in Tandem Model,” NASA Case Number LAR-17981-1; U.S. Patent Application No. 62/513,497 titled “Portable Compact Thermionic Power Cell,” NASA Case Number LAR-18860-P2; U.S. Patent Application No. 15/479,679 titled “Metallic Junction Thermoelectric Generator,” NASA Case Number LAR-18866-1; U.S. Patent Application No. 62/621,930 titled “Selective and Direct Deposition Technique for Streamlined CMOS Processing,” NASA Case Number LAR-18925-P2; U.S. Patent Application No. 62/643,292 titled “Portable Miniaturized Thermionic Power Cell with Multiple Regenerative Layers,” NASA Case No. LAR-18926-P; U.S. Patent Application No. 62/643,303 titled “High Performance Electric Generators Boosted by Nuclear Electorn Avalanche (NEA),” NASA Case No. LAR-19112-P, to Braidy Industries, Inc., having its principal place of business in Ashland, Kentucky. The fields of use may be limited to power generators, generation of electricity and/or similar fields of use thereto.

DATES: The prospective partially exclusive patent license may be granted unless NASA receives written objections, including evidence and argument, no later than June 22, 2018 that establish that the grant of the license would not be consistent with the requirements regarding the licensing of federally owned inventions as set forth in the Bayh-Dohl Act and implementing regulations. Competing applications completed and received by NASA no later than June 22, 2018 will also be treated as objections to the grant of the contemplated partially exclusive patent license. Objections submitted in response to this notice will not be made available to the public for inspection and, to the extent permitted by law, will not be released under the Freedom of Information Act.

ADDRESSES: Objections relating to the prospective license may be submitted to Patent Counsel, Office of Chief Counsel, NASA Langley Research Center, MS 30, Hampton, Virginia 23681. Phone (757) 864-3221. Facsimile (757) 864-9190.

FOR FURTHER INFORMATION CONTACT: Jonathan B. Soike, Patent Attorney, Office of Chief Counsel, NASA Langley Research Center, MS 30, Hampton, Virginia 23681. Phone (757) 864-7863. Facsimile (757) 864-9190.

SUPPLEMENTARY INFORMATION: This notice of intent to grant a partially exclusive patent license is issued in accordance with 35 U.S.C. 209(e) and 37 CFR 404.7(a)(1)(i). The patent rights in these inventions have been assigned to the United States of America as represented by the Administrator of the National Aeronautics and Space Administration. The prospective partially exclusive patent license will comply with the requirements of 35 U.S.C. 209 and 37 CFR 404.7.

Information about other NASA inventions available for licensing can be found online at http://technology.nasa.gov.

Mark Dvorscak,
Agency Counsel for Intellectual Property.

[FR Doc. 2018-12231 Filed 6-6-18; 8:45 am]

BILLING CODE 7510-13-P